DEPARTMENT OF EDUCATION

Free Application for Federal Student Aid (FAFSA®) Information To Be Verified for the 2026-2027 Award Year

AGENCY: Office of Postsecondary Education, Department of Education.

ACTION: Notice.

SUMMARY: For each award year, the Secretary publishes in the Federal Register a notice announcing the FAFSA information that an institution and an applicant may be required to verify, as well as the acceptable documentation for verifying FAFSA information. This is the notice for the 2026-2027 award year; Assistance Listing Numbers 84.007, 84.033, 84.063, and 84.268.

FOR FURTHER INFORMATION CONTACT: Vanessa Gomez. Telephone: (202) 453-6708. Email: Vanessa.Gomez@ed.gov.

If you are deaf, hard of hearing, or have a speech disability and wish to access telecommunications relay services, please dial 7-1-1.

SUPPLEMENTARY INFORMATION: If the Secretary selects an applicant for verification, the applicant's Institutional Student Information Record (ISIR) includes flags that indicate (1) that the applicant has been selected by the Secretary for verification and (2) the verification tracking group in which the applicant has been placed. The verification tracking group indicates which FAFSA information needs to be verified for the applicant and, if appropriate, for the applicant's parent(s) or spouse. The FAFSA Submission Summary indicates that the applicant's FAFSA information has been selected for verification and directs the applicant to contact the institution for further instructions for completing the verification process.

In accordance with the Fostering Undergraduate Talent by Unlocking Resources for Education (FUTURE) Act, much of the applicant's tax return information, including information from their spouse and/or parents, will come directly from the Internal Revenue Service (IRS) and will not be viewable by the student and other contributors. IRS data that is transferred and used in the Pell Grant eligibility determination and/or Student Aid Index (SAI) calculation cannot be edited and therefore is not subject to any verification procedures. When data is unable to be obtained directly from the IRS, the applicant will have to manually enter the necessary information into the FAFSA form, and that manual entry may be subject to verification.

The following chart lists, for the 2026-2027 award year, the FAFSA information that an institution and an applicant and, if appropriate, the applicant's parent(s) or spouse may be required to verify under 34 CFR 668.56. The chart also lists the acceptable documentation that must, under section 668.57, be provided to an institution for that information to be verified.

BILLING CODE 4000-01-P

The individual FAFSA items that an applicant must verify are based upon the Verification Tracking Group to which the applicant is assigned as outlined in the following chart.

BILLING CODE 4000-01-C

Other Sources for Detailed Information

We provide a more detailed discussion on the verification process in the following resources that will be available on the Knowledge Center web page at https://fsapartners.ed.gov/knowledge-center:

• 2026-2027 Application and Verification Guide.

• 2026-2027 FAFSA Specifications Guide: Volume 6—ISIR Guide, Volume 7—Comment Codes.

• 2026-2027 COD Technical Reference.

• Program Integrity Information—Questions and Answers on Verification at https://www.ed.gov/laws-and-policy/higher-education-laws-and-policy/program-integrity-questions-and-answers-verification.

Accessible Format: On request to the program contact person listed under FOR FURTHER INFORMATION CONTACT, individuals with disabilities can obtain this document in an accessible format. The Department will provide the requestor with an accessible format that may include Rich Text Format (RTF) or text format (txt), a thumb drive, an MP3 file, braille, large print, audiotape, or compact disc or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF, you must have Adobe Acrobat Reader, which is available free at the site.

You may also access documents of the Department published in the Federal Register by using the article search feature at www.federalregister.gov. Specifically, through the advanced search feature at this site, you can limit your search to documents published by the Department.

Program Authority: 20 U.S.C. 1070a, 1070b-1070b-4, 1087a-1087j, and 1087-51 through 1087-58.

David Barker,
Assistant Secretary for Postsecondary Education.

[FR Doc. 2025-21303 Filed 11-25-25; 8:45 am]

BILLING CODE 4000-01-P